DEPARTMENT OF THE INTERIOR

Bureau of Land Management

[ID-930-04-1610-DS]

Notice of Availability of Draft Environmental Impact Statement and Draft Land Use Plan Amendments; Northern Rockies Lynx Amendments

AGENCY: Bureau of Land Management, Interior.

ACTION: Notice of availability.

SUMMARY: The Bureau of Land Management (BLM) (acting as cooperating agency to the lead agency, the USDA Forest Service, Northern Region) has prepared a Draft Environmental Impact Statement (EIS) on a proposal to amend land use plans to incorporate management direction for the Canada lynx within the northern Rocky Mountain area.

DATES: The 90-day public comment period begins when the Environmental Protection Agency publishes a notice of the filing of the Draft EIS in the Federal Register. Information regarding public meetings on the Draft EIS is posted on the Internet at http://www.fs.fed.us/r1/planning/lynx.html and sent to people who commented during scoping or asked to be on the mailing list.

ADDRESSES: Send written comments on the Draft EIS/plan amendments to Northern Rockies Lynx Amendment, Attn: Jon Haber, Project Manager, USDA Forest Service, Northern Region Headquarters, PO BOX 7669, Missoula, MT 59807. Send e-mail comments to comments-northern-regional-office@fs.fed.us (Please specify Northern Rockies Lynx Amendment on the subject line.)

FOR FURTHER INFORMATION CONTACT: John Haber (406) 329-3399 or Joan Dickerson, (406) 329-3314. Information regarding lynx and the planning process can also be found at http://www.fs.fed.us/r1/planning/lynx.html.

SUPPLEMENTARY INFORMATION: The nine BLM Field Offices and their associated plans included in this plan amendment process are shown below.

Bureau of Land Management Offices and Associated Land Use Plans

Idaho

Upper Columbia-Salmon/Clearwater District

Salmon Field Office—Lemhi Resource Management Plan (RMP),

Challis Field Office—Challis RMP,

Coeur d'Alene Field Office—Emerald Empire Management Framework Plan (MFP),

Cottonwood Field Office—Chief Joseph MFP

Upper Snake River District

Idaho Falls Field Office—Medicine Lodge RMP,

Pocatello Field Office—Pocatello RMP*,

Shoshone Field Office—Sun Valley MFP

Lower Snake River District

Four Rivers Field Office—Cascade RMP

Utah

Salt Lake Field Office—Randolph MFP*

*Only the linkage area direction would apply

Dated: October 10, 2002.
Michael A. Ferguson,
Acting Idaho State Director, BLM.

[FR Doc. 04-1 Filed 1-15-04; 8:45 am]

BILLING CODE 4310-GG-P